DEPARTMENT OF TRANSPORTATION

National Highway Traffic Safety Administration

[Docket No. NHTSA-2010-0053]

Visual-Manual NHTSA Driver Distraction Guidelines for In-Vehicle Electronic Devices

AGENCY: National Highway Traffic Safety Administration (NHTSA), Department of Transportation (DOT).

ACTION: Announcement of technical workshop.

SUMMARY: On February 24, 2012, NHTSA published proposed Visual-Manual Driver Distraction Guidelines for In-Vehicle Electronic Devices. NHTSA is announcing a public workshop to discuss technical issues relevant to these proposed Guidelines. The workshop will include brief NHTSA presentations outlining the content of and basis for the Guidelines and will provide opportunities for the public to ask questions and present information on the technical aspects of the proposed Guidelines.

DATES: Technical Workshop. The technical workshop will be held on March 23, 2012, at the location indicated in the ADDRESSES section below. The workshop will start at 9 a.m. and is scheduled to continue until 12 p.m., local time. However, the workshop will continue beyond 12 p.m. if there are presenters who have not yet had a chance to make their presentation or if the presiding official believes that allowing the discussion to extend beyond that time would be beneficial. If you would like to attend the technical workshop and either make a presentation or participate in the discussion, please contact the person identified under FOR FURTHER INFORMATION CONTACT no later than March 16, 2012.

Written comments. As announced in the proposal, to be assured of consideration, written comments on the proposed NHTSA Guidelines must be received by April 24, 2012 (77 FR 11200).

ADDRESSES: The March 23, 2012 technical workshop will be held at the National Highway Traffic Safety Administration Vehicle and Research Test Center, 10820 State Route 347—Bldg. 60, East Liberty, Ohio 43319.

FOR FURTHER INFORMATION CONTACT: If you would like to attend the technical workshop and either make a presentation or participate in the discussion, please contact Elizabeth Mazzae, by the date specified under DATES section above, at: Applied Crash Avoidance Research Division, Vehicle Research and Test Center, NHTSA, 10820 State Route 347—Bldg. 60, East Liberty, Ohio 43319; Telephone (937) 666-4511; Facsimile: (937) 666-3590; email address: elizabeth.mazzae@dot.gov.

Please provide her with the following information: Name, affiliation, address, email address, telephone and fax numbers, and indicate whether you require accommodations such as a sign language interpreter or translator or whether you plan to use technological aids (e.g., audio-visuals, computer slideshows).

You may learn more about the proposed NHTSA Guidelines by visiting the Department of Transportation's Web site on distracted driving, Distraction.gov, NHTSA's Web site, www.nhtsa.gov, or by searching the public docket (NHTSA-2010-0053) at www.regulations.gov.

SUPPLEMENTARY INFORMATION: The proposed NHTSA Guidelines are meant to promote safety by discouraging the introduction of excessively distracting devices in vehicles. These NHTSA Guidelines, which are voluntary, apply to communications, entertainment, information gathering, and navigation devices or functions that are not required to operate the vehicle safely and that are operated by the driver through visual-manual means (meaning the driver looking at a device, manipulating a device-related control with the driver's hand, and watching for visual feedback).

The proposed NHTSA Guidelines list certain secondary, non-driving related tasks that, based on NHTSA's research, are believed by the agency to interfere inherently with a driver's ability to safely control the vehicle. The Guidelines recommend that those in-vehicle devices be designed so that they cannot be used by the driver to perform such tasks while the driver is driving. For all other secondary, non-driving-related visual-manual tasks, the NHTSA Guidelines specify a test method for measuring the impact of performing those tasks on driving safety and time-based acceptance criteria for assessing whether a task interferes too much with driver attention to be suitable to be performed while driving. If a task does not meet the acceptance criteria, the NHTSA Guidelines recommend that in-vehicle devices be designed so that the task cannot be performed by the driver while driving.

In addition to identifying inherently distracting tasks and providing a means for measuring and evaluating the level of distraction associated with other non-driving-related tasks, the NHTSA Guidelines set forth several design recommendations for in-vehicle devices in order to minimize their potential for distraction.

The proposed NHTSA Guidelines were published in the Federal Register on February 24, 2012 (77 FR 11200) and are available on the Web pages listed above under FOR FURTHER INFORMATION CONTACT and also in the rulemaking docket. The notice is also available at http://www.nhtsa.gov/staticfiles/rulemaking/pdf/Distraction_NPFG-02162012.pdf.

Background information concerning the proposal in particular and the problem of distracted driving in general is available at http://www.nhtsa.gov/About+NHTSA/Press+Releases/2012/U.S.+Department+of+Transportation+Proposes+'Distraction'+Guidelines+for+Automakers and at http://www.distraction.gov/.

The purpose of the public technical workshop is to provide interested parties with an opportunity to discuss issues relevant to the technical aspects of NHTSA's Visual-Manual Driver Distraction Guidelines. The workshop will include brief NHTSA presentations outlining the content and basis of the proposed Guidelines. The workshop will be held in a lab environment.

Technical Workshop Procedures. Because the technical workshop will be located in a lab environment, NHTSA requests that the number of those attending from each affiliation be held to a minimum. For security purposes, photo identification is required to enter NHTSA's Vehicle Research and Test Center.

NHTSA will conduct the workshop informally. Thus, technical rules of evidence will not apply. There will be an opportunity for attendees to make presentations and ask NHTSA staff questions related to the technical aspects of the proposed Guidelines.

Once NHTSA establishes how many people have registered to make presentations at the workshop, we will allocate an appropriate amount of time to each participant, allowing time for necessary breaks. In addition, we will reserve a block of time for anyone else in the audience who wants to make a presentation.

For planning purposes, each speaker should anticipate speaking for approximately 15-20 minutes, although we may need to shorten that time if there is a large turnout. We will accommodate your requested presentation time to the extent we can, consistent with the other requests we receive. We request that you bring three copies of your statement or other material (e.g., film clips and slides) so that it can be placed into the docket.

If you plan to use technological aids (e.g., audio-visuals, computer slideshows), you must notify the contact person in the FOR FURTHER INFORMATION CONTACT section above in advance of the meeting and make advance arrangements with that person regarding the use of any aids in order to facilitate set-up.

Presenters wishing to provide supplementary information should submit it by the April 24th deadline for written comments. Written statements and supporting information submitted during the comment period will be considered with the same weight as oral comments and supporting information presented at the technical workshop.

Issued on March 9, 2012.
David L. Strickland,
Administrator.

[FR Doc. 2012-6266 Filed 3-12-12; 4:15 pm]

BILLING CODE 4910-59-P